DEPARTMENT OF HEALTH AND HUMAN SERVICES

Food and Drug Administration

[Docket No. 2007N-0041]

Agency Information Collection Activities; Submission for Office of Management and Budget Review; Administrative Procedures for the Clinical Laboratory Improvement Amendments of 1998 Categorization; Correction

AGENCY: Food and Drug Administration, HHS.

ACTION: Notice; correction.

SUMMARY: The Food and Drug Administration (FDA) is correcting a notice that appeared in the Federal Register of May 16, 2007 (72 FR 27573). The document announced that a proposed collection of information had been submitted to the Office of Management and Budget (OMB) for review and clearance under the Paperwork Reduction Act of 1995. The document was published with an error. This document corrects that error.

FOR FURTHER INFORMATION CONTACT: Denver Presley, Jr., Office of the Chief Information Officer (HFA-250), Food and Drug Administration, 5600 Fishers Lane, Rockville, MD 20857, 301-827-1472.

SUPPLEMENTARY INFORMATION: In FR Doc. E7-9435, appearing on page 27573 in the Federal Register of Wednesday, May 16, 2007, the following correction is made:

1. On page 27574, in the third column, in the third full paragraph, the sentence “The likely respondents for this collection are Investigational New Drug Application Sponsors.” is corrected to read “The likely respondents for this collection of information are manufacturers of medical devices.”

Dated: August 23, 2007.
Jeffrey Shuren,
Assistant Commissioner for Policy.

[FR Doc. E7-17153 Filed 8-29-07; 8:45 am]

BILLING CODE 4160-01-S